DEPARTMENT OF HEALTH AND HUMAN SERVICES

Agency for Healthcare Research and Quality

Meeting of the Citizens' Health Care Working Group

AGENCY: Agency for Healthcare Research and Quality (AHRQ), HHS.

ACTION: Notice of public meeting.

SUMMARY: In accordance with section 10(a) of the Federal Advisory Committee Act, this notice announces a meeting of the Citizens' Health Care Working Group (the Working Group) mandated by section 1014 of the Medicare Modernization Act.

DATES: A business meeting of the Working Group will be held on Wednesday June 21, 2006 and Thursday June 22, 2006. On June 21st, the session will begin at 8:30 a.m. and end at 4 p.m. On June 22nd, the session will begin at 8:30 a.m. and end at 2 p.m.

ADDRESSES: The meeting will take place at the conference room of the United Food and Commercial Workers International Union. The office is located at 1775 K Street, NW., Washington, DC 20006. The main receptionist area is location on the 7th floor; the conference room is located on the 11th floor. The meeting is open to the public.

FOR FURTHER INFORMATION CONTACT: Caroline Taplin, Citizens' Health Care Working Group, at (301) 443-1514 or caroline.taplin@ahrq.hhs.gov. If sign language interpretation or other reasonable accommodation for a disability is needed, please contact Mr. Donald L. Inniss, Director, Office of Equal Employment Opportunity Program, Program Support Center, on (301) 443-1144.

The agenda for this Working Group meeting will be available on the Citizens' Working Group Web site, www.citizenshealthcare.gov. also available at that site is a roster of Working Group members. When a summary of this meeting is completed, it will also be available on the Web site.

SUPPLEMENTARY INFORMATION: Section 1014 of Public Law 108-173, (known as the Medicare Modernization Act) directs the Secretary of the Department of Health and Human Services (DHHS), acting through the Agency for Healthcare Research and Quality, to establish a Citizens' Health Care Working Group (Citizen Group). This statutory provision, codified at 42 U.S.C. 299 n., directs the Working Group to: (1) Identify options for changing our health care system so that every American has the ability to obtain quality, affordable health care coverage; (2) provide for a nationwide public debate about improving the health care system; and, (3) submit its recommendations to the President and the Congress.

The Citizens' Health Care Working Group is composed of 15 members: The Secretary of DHHS is designated as a member by statute. The Comptroller General of the U.S. Government Accountability Office (GAO) was directed to name the remaining 14 members whose appointments were announced on February 28, 2005.

Working Group Meeting Agenda

The Working Group meeting on June 21st and June 22nd will be devoted to ongoing Working Group business. The principal topic to be addressed will be the continued refinement of materials associated with the Working Group's interim recommendations which were posted ont he Working Group's Web site http://www.citizenshealthcare.gov on June 2, 2006.

Submission of Written Information

To fulfill its charge described above, the Working Group has been conducting a public dialogue on health care in America through public meetings held across the country and through comments received on its Web site. The Working Group invites members of the public to the Web site to be part of that dialogue.

Further, the Working Group will accept written submissions for consideration at the Working Group business meeting listed above. In general, individuals or organizations wishing to provide written information for consideration by the Citizens' Health Care Working Group at this meeting should submit information electronically to citizenshealth@ahrq.gov.

Dated: June 5, 2006.
Carolyn M. Clancy,
Director.

[FR Doc. 06-5377 Filed 6-13-06; 8:45 am]

BILLING CODE 4610-90-M